DEPARTMENT OF HOMELAND SECURITY

Coast Guard

33 CFR Part 117

[Docket No. USCG-2010-1100]

Drawbridge Operation Regulation; Sassafras River, Georgetown, MD

AGENCY: Coast Guard, DHS.

ACTION: Notice of temporary deviation from regulations.

SUMMARY: The Commander, Fifth Coast Guard District has issued a temporary deviation from the regulations governing the operation of the Sassafras River (Route 213) Bridge, mile 10.0, in Georgetown, MD. The deviation is necessary to facilitate mechanical repairs and gate replacement. This deviation allows the drawbridge to remain in the closed to navigation position.

DATES: This deviation is effective from 5 a.m. on January 10, 2011 until 5 p.m. on January 21, 2011.

ADDRESSES: Documents mentioned in this preamble as being available in the docket are part of docket USCG-2010-1100 and are available online by going to http://www.regulations.gov, inserting USCG-2010-1100 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District; telephone 757-398-6587, e-mail Terrance.A.Knowles@uscg.mil. If you have questions on viewing the docket, call Renee V. Wright, Program Manager, Docket Operations, telephone 202-366-9826.

SUPPLEMENTARY INFORMATION: The Maryland State Highway Administration owns and operates this bascule-type drawbridge and requested a temporary deviation from the current operating regulations set out in 33 CFR 117.570 to facilitate mechanical repairs and barrier gate replacement.

The Sassafras River Bridge (Route 213), at mile 10.0, in Georgetown, MD has a vertical clearance in the closed position to vessels of four feet, above mean high water. Under normal operating conditions, the draw would open on signal from November 1 through March 31, except from midnight to 8 a.m. when the draw only need open when at least a six-hour advance notice is given.

Under this temporary deviation, the Sassafras River (Route 213) Bridge will be maintained in the closed-to-navigation position beginning at 5 a.m. on January 10, 2011 until 5 p.m. on January 21, 2011. The drawbridge will not be able to open in the event of an emergency. Vessels that can pass under the bridge without a bridge opening may do so at all times. Based on historical bridge log data this may affect up to one vessel per day. Vessels with heights greater than 4 feet have no alternate routes.

The project being conducted during the month of January should have the least impact on mariners due to the lack of waterway use. The Coast Guard has and will continue to inform the users of the waterway through our Local and Broadcast Notices to Mariners Closure periods for the bridge will be announced so that vessels can arrange their transits to minimize any impact caused by the temporary deviation.

In accordance with 33 CFR 117.35(e), the drawbridge must return to its regular operating schedule immediately at the end of the designated time period. This deviation from the operating regulations is authorized under 33 CFR 117.35.

Dated: December 15, 2010.
Waverly W. Gregory, Jr.,
Chief, Bridge Administration Branch, Fifth Coast Guard District.

[FR Doc. 2010-32380 Filed 12-23-10; 8:45 am]

BILLING CODE 9110-04-P